Proclamation 8471 of January 4, 2010

National Slavery and Human Trafficking Prevention Month, 2010

By the President of the United States of America

A Proclamation

The United States was founded on the principle that all people are born with an unalienable right to freedom—an ideal that has driven the engine of American progress throughout our history. As a Nation, we have known moments of great darkness and greater light; and dim years of chattel slavery illuminated and brought to an end by President Lincoln’s actions and a painful Civil War. Yet even today, the darkness and inhumanity of enslavement exists. Millions of people worldwide are held in compelled service, as well as thousands within the United States. During National Slavery and Human Trafficking Prevention Month, we acknowledge that forms of slavery still exist in the modern era, and we recommit ourselves to stopping the human traffickers who ply this horrific trade.

As we continue our fight to deliver on the promise of freedom, we commemorate the Emancipation Proclamation, which became effective on January 1, 1863, and the 13th Amendment, which was sent to the States for ratification on February 1, 1865. Throughout the month of January, we highlight the many fronts in the ongoing battle for civil rights—including the efforts of our Federal agencies; State, local, and tribal law enforcement partners; international partners; nonprofit social service providers; private industry and nongovernmental organizations around the world who are working to end human trafficking.

The victims of modern slavery have many faces. They are men and women, adults and children. Yet, all are denied basic human dignity and freedom. Victims can be abused in their own countries, or find themselves far from home and vulnerable. Whether they are trapped in forced sexual or labor exploitation, human trafficking victims cannot walk away, but are held in service through force, threats, and fear. All too often suffering from horrible physical and sexual abuse, it is hard for them to imagine that there might be a place of refuge.

We must join together as a Nation and global community to provide that safe haven by protecting victims and prosecuting traffickers. With improved victim identification, medical and social services, training for first responders, and increased public awareness, the men, women, and children who have suffered this scourge can overcome the bonds of modern slavery, receive protection and justice, and successfully reclaim their rightful independence.

Fighting modern slavery and human trafficking is a shared responsibility. This month, I urge all Americans to educate themselves about all forms of modern slavery and the signs and consequences of human trafficking. Together, we can and must end this most serious, ongoing criminal civil rights violation.

NOW, THEREFORE, I, BARACK OBAMA, President of the United States of America, by virtue of the authority vested in me by the Constitution and the laws of the United States, do hereby proclaim January 2010 as National Slavery and Human Trafficking Prevention Month, culminating in the annual celebration of National Freedom Day on February 1. I call upon the people of the United States to recognize the vital role we can play in ending modern slavery, and to observe this month with appropriate programs and activities.

IN WITNESS WHEREOF, I have hereunto set my hand this fourth day of January, in the year of our Lord two thousand ten, and of the Independence of the United States of America the two hundred and thirty-fourth.

[FR Doc. 2010-313

Filed 1-7-10; 11:15 am]

Billing code 3195-W0-P